FEDERAL COMMUNICATIONS COMMISSION

47 CFR Part 63

[FCC 02-154]

2000 Biennial Regulatory Review: International Telecommunications Service, Correction

AGENCY: Federal Communications Commission.

ACTION: Final rule; correction.

SUMMARY: In this document the Commission amends a reference to a section that has been removed from the Commission's rules.

DATES: Effective on August 25, 2003.

FOR FURTHER INFORMATION CONTACT: Peggy Reitzel, Telecommunications Division, International Bureau, (202) 418-1499.

SUPPLEMENTARY INFORMATION: The Commission published a document in the Federal Register on July 9, 2002, (67 FR 45387).

In the FR Doc. 02-16738, the final rule removed § 63.18(e)(3) and redesignated paragraph (e)(4) as paragraph (e)(3). Redesignating paragraph (e)(4) as paragraph (e)(3) resulted in an incorrect reference in § 63.11(d). This document corrects § 63.11(d) to read as follows:

§ 63.11 Notification by and prior approval for U.S. international carriers that are or propose to become affiliated with a foreign carrier.

* * * * *

(d) Cross-Reference: In the event a transaction requiring a foreign carrier notification pursuant to this section also requires a transfer of control of assignment application pursuant to § 63.24, the foreign carrier notification shall reference in the notification the transfer of control of assignment application and the date of its filing.

* * * * *

Federal Communications Commission.
Marlene H. Dortch,
Secretary.

[FR Doc. 03-21617 Filed 8-22-03; 8:45 am]

BILLING CODE 6712-01-P